DEPARTMENT OF COMMERCE

National Oceanic and Atmospheric Administration

RIN 0648-XA520

Western Pacific Fisheries; Approval of a Marine Conservation Plan for Guam

AGENCY: National Marine Fisheries Service (NMFS), National Oceanic and Atmospheric Administration (NOAA), Commerce.

ACTION: Notice of agency decision.

SUMMARY: NMFS announces approval of a marine conservation plan for Guam.

DATES: This agency decision is effective from June 28, 2011, through June 27, 2014.

ADDRESSES: Copies of the MCP are available from http://www.regulations.gov, or the Western Pacific Fishery Management Council (Council), 1164 Bishop St., Suite 1400, Honolulu, HI 96813, tel 808-522-8220.

FOR FURTHER INFORMATION CONTACT: Jarad Makaiau, Sustainable Fisheries, NMFS Pacific Islands Regional Office, 808-944-2108.

SUPPLEMENTARY INFORMATION: Section 204(e) of the Magnuson-Stevens Fishery Conservation and Management Act (Magnuson-Stevens Act) authorizes the Secretary of State, with the concurrence of the Secretary of Commerce (Secretary) and in consultation with the Council, to negotiate and enter into a Pacific Insular Area fishery agreement (PIAFA). A PIAFA would allow foreign fishing within the U.S. Exclusive Economic Zone (EEZ) adjacent to American Samoa, Guam, or the Northern Mariana Islands with the concurrence of, and in consultation with, the Governor of the Pacific Insular Area to which the PIAFA applies. Before entering into a PIAFA, the appropriate Governor, with the concurrence of the Council, must develop a 3-year Marine Conservation Plan (MCP) providing details on uses for any funds collected by the Secretary under the PIAFA.

The Magnuson-Stevens Act requires payments received under a PIAFA to be deposited into the United States Treasury and then covered over to the Treasury of the Pacific Insular Area for which funds were collected. In the case of violations by foreign fishing vessels occurring within the EEZ off any Pacific Insular Area, amounts received by the Secretary attributable to fines and penalties imposed under the Magnuson-Stevens Act, including sums collected from the forfeiture and disposition or sale of property seized subject to its authority, shall be deposited into the Treasury of the Pacific Insular Area adjacent to the EEZ in which the violation occurred, after direct costs of the enforcement action are subtracted. Any funds deposited into the Treasury of the Pacific Insular Area may be used by the jurisdiction for fisheries enforcement and for implementation of an MCP.

An MCP must be consistent with the Council's fishery ecosystem plans, must identify conservation and management objectives (including criteria for determining when such objectives have been met), and must prioritize planned marine conservation projects. Although no foreign fishing is being considered at this time, the Council, at its 151st meeting held June 15-18, 2011, reviewed and approved the Guam MCP and recommended its submission to the Secretary for approval. On June 20, 2011, the Governor of Guam submitted the MCP to NMFS, the designee of the Secretary, for review and approval.

The Guam MCP contains eight conservation and management objectives under which planned projects and activities designed to meet the objective are identified and described, as follows:

Objective 1. Fisheries resource assessment and monitoring.

Objective 2. Effective surveillance and enforcement monitoring, including:

a. Implementation of an at-sea observer program to collect information on foreign fishing activities.

b. Increase enforcement and surveillance of the U.S. EEZ around Guam.

Objective 3. Regional cooperation, including development of a longline permit, reporting, and quota utilization program to facilitate responsible fisheries development.

Objective 4. Public participation, including increased public participation in the development and review of Guam's 3-year marine conservation plan.

Objective 5. Habitat assessment and monitoring, including support for long-term habitat assessment and monitoring of Guam coral reef flat communities.

Objective 6. Domestic fisheries development, including:

a. Rehabilitation and improvements to the Agat small boat marina docks.

b. Construction of an American with Disabilities Act compliant access ramp and fishing platform at Hagatna Marina.

c. Establishing a manahak (rabbit fish) hatchery and restocking program.

d. Construction of a Guam Fishermen's Cooperative Marine Building Complex.

e. Rehabilitation and improvements to the Agat small boat marina, including lighting, security camera and repair of refueling and boarding piers.

f. Collection of life-history data of nearshore reef fish.

g. Support Guam volunteer fishery data collection project.

h. Support deployment and replacement of Guam Division of Fish and Wildlife fish aggregation device and mooring buoys.

Objective 7. Marine conservation education, including support for the development and distribution of materials focused on sustainable marine resource use.

Objective 8. Western Pacific Demonstration Project to promote awareness of traditional fishing and conservation practices through education workshops and demonstrations.

This notice announces that NMFS has determined that the Guam MCP satisfies the requirements of the Magnuson-Stevens Act and approves the MCP for the 3-year period from June 28, 2011, through June 27, 2014.

Dated: July 1, 2011.
Margo Schulze-Haugen,
Acting Director, Office of Sustainable Fisheries, National Marine Fisheries Service.

[FR Doc. 2011-17081 Filed 7-6-11; 8:45 am]

BILLING CODE 3510-22-P